ENVIRONMENTAL PROTECTION AGENCY

[EPA-HQ-OPPT-2021-0245; FRL—12378-01-OMS]

Agency Information Collection Activities; Submission to the Office of Management and Budget for Review and Approval; Comment Request; EPA's Safer Choice Program Product and Partner Recognition Activities (Renewal)

AGENCY: Environmental Protection Agency (EPA).

ACTION: Notice.

SUMMARY: The Environmental Protection Agency (EPA) has submitted an information collection request (ICR), EPA's Safer Choice Program Product and Partner Recognition Activities (EPA ICR Number 2692.02, OMB Control Number 2070-0221) to the Office of Management and Budget (OMB) for review and approval in accordance with the Paperwork Reduction Act. This is a proposed revision of the ICR, which is currently approved through May 31, 2025. Public comments were previously requested via the Federal Register on May 8, 2024 during a 60-day comment period. This notice allows for an additional 30 days for public comments.

DATES: Comments may be submitted on or before November 27, 2024.

ADDRESSES: Submit your comments, referencing Docket ID Number EPA-HQ-OPPT-2021-0245, to EPA online using www.regulations.gov (our preferred method) or by mail to: EPA Docket Center, Environmental Protection Agency, Mail Code 2822T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Office of Program Support (7602M), Office of Chemical Safety and Pollution Prevention, Environmental Protection Agency, 1200 Pennsylvania Ave. NW, Washington, DC 20460; telephone number: (202) 566-1204; email address: sleasman.katherine@epa.gov.

SUPPLEMENTARY INFORMATION: This is a proposed revision of the ICR, which is currently approved through May 31, 2025. An agency may not conduct or sponsor and a person is not required to respond to a collection of information unless it displays a currently valid OMB control number.

Public comments were previously requested via the Federal Register on May 8, 2024, during a 60-day comment period (89 FR 38895). This notice allows for an additional 30 days for public comments. Supporting documents, which explain in detail the information the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR renewal covers the information collection activities associated with the reporting and recordkeeping requirements for individuals, businesses, organizations, and government entities participating in or collaborating with EPA's Safer Choice and Design for the Environment (DfE) programs (referred to collectively as “the Safer Choice program” in this document unless otherwise indicated). This ICR also includes additional sections for the Safer Choice cleaning service certification and third-party profiler (TPP) solicitations. These components are designed to:

• Improve data efficiency by electronic data collection via a cloud-based Salesforce system called the Safer Choice Community;

•Monitor the public's awareness of the Safer Choice program and the Safer Choice label and DfE logo;

• Clarify the Safer Choice Partner of the Year Awards application process and form;

• Describe information collected through the new Safer Choice cleaning service certification program; and,

• Clarify the TPP application process and form.

Form numbers: 9600-017, 9600-018, 9600-019, 9600-020, 9600-021, 9600-022, 9600-023, 9600-058, 9600-059, 9600-060, 9600-061.

Respondents/affected entities: Entities potentially affected by this ICR include a wide range of sectors that participation in the Safer Choice Program including chemical manufacturers, paint and coating manufacturing, merchant wholesalers, janitorial services, and environmental consulting firms.

Respondent's obligation to respond: Voluntary.

Estimated number of respondents: 4,539 (total).

Frequency of response: On occasion.

Total estimated burden: 4,511 hours (per year). Burden is defined at 5 CFR 1320.3(b).

Total estimated cost: $854,358 (per year), which includes $553,850 annualized capital or operation & maintenance costs.

Changes in the estimates: There is an increase of 1,279 hours in the total estimated respondent burden compared with the ICR currently approved by OMB. This increase, which is discussed in more detail in the ICR, is due to an increase in annual consumer online surveys, which increased from 2,000 to 4,000 annually, the inclusion of a new program, the “Safer Choice Cleaning Service Certification,” and the inclusion of the TPP solicitation process. These changes qualify as a program change.

Courtney Kerwin,
Director, Information Engagement Division.

[FR Doc. 2024-24986 Filed 10-25-24; 8:45 am]

BILLING CODE 6560-50-P